DEPARTMENT OF STATE

[Public Notice: 7569]

Final Environmental Impact Statement for the Proposed Keystone XL Project; Public Meetings

AGENCY: Department of State.

ACTION: Notice of Public Meetings following the final Environmental Impact Statement for the Proposed Keystone XL Project.

SUMMARY: Following the release of the final Environmental Impact Statement for the proposed Keystone XL pipeline, Executive Order 13337 calls on the Secretary of State, or her designee, to determine if issuance of a Presidential Permit to the applicant would serve the national interest. This decision on the application will take into account a wide range of factors, including environmental, economic, energy security, foreign policy, and pipeline safety concerns. No decision will be made until the completion of this thorough review process. The Department expects to make a decision on whether to grant or deny the Permit before the end of the year.

If built, the Keystone XL pipeline would carry crude oil from Canada and from U.S. oil fields in North Dakota and Montana to refineries primarily on the Gulf Coast of the United States. As part of the review and analysis of the national interest, the U.S. Department of State will hold a series of public meetings, and provide other opportunities for the public to comment on the project. Along with other factors listed above, these comments will be considered in the final decision. Meetings will be held at the following dates, locations and times (all meeting times are local time):

Monday, September 26, 2011

Bob Bowers Civic Center, 3401 Cultural Center Drive, Port Arthur, Texas 77642, 4:30 p.m.-10 p.m.

Kansas Expo Center, 1 Expocenter Drive, Topeka, Kansas 66612, 12 p.m.-3:30 p.m., 4 p.m.-8 p.m.

Tuesday, September 27, 2011

Dawson Community College, Toepke Center Auditorium, 300 Community Drive, Glendive, Montana 59330, 4:30 p.m.-10 p.m.

Pershing Center, 226 Centennial Mall South, Lincoln, Nebraska 68508, 12 p.m.-3:30 p.m., 4 p.m.-8 p.m.

Wednesday, September 28, 2011

University of Texas, Lady Bird Johnson Auditorium, 2313 Red River Street, Austin, Texas 78705, 12 p.m.-3:30 p.m., 4 p.m.-8 p.m.

Thursday, September 29, 2011

Best Western Ramkota, 920 West Sioux Avenue, Pierre, South Dakota 57501, 12 p.m. -3:30 p.m., 4 p.m.-8 p.m.

West Holt High School, 100 N. Main Street, Atkinson, Nebraska 68713, 4:30 p.m.- 10 p.m.

Friday, September 30, 2011

Reed Center Exhibition Hall, 5800 Will Rogers Road, Midwest City, Oklahoma 73110, 12 p.m.-3:30 p.m., 4 p.m.-8 p.m.

Friday, October 7, 2011

Washington, District of Columbia, To Be Announced via Web site and public notice.

Procedures for Public Meetings

Speakers: All members of the public are welcome to attend the meetings and state their comments for the administrative record. Persons who want to speak at the meeting will need to sign up in person at the entrance of the meeting venue and be given a number. The order of speakers will be determined on a first-come, first-served basis, according to the sign-up sheet. Those wishing to speak must be present when their name or number is called or they will forfeit their time.

Comments: Remarks made at the meetings will be recorded, transcribed, and entered into the administrative record for the State Department's consideration of the proposed Keystone XL pipeline. Each speaker will be allowed 3-5 minutes to make remarks, depending on the number of people who sign up to speak. Speakers will be asked to state their name and any organization with which they are affiliated.

Depending on attendance, it may not be possible for all those who sign up to have the opportunity to speak. The State Department encourages individuals who do not have the opportunity to speak or who are unable to complete their comments in the allotted time to submit comments on the national interest determination in written form. A State Department official will be available to accept written comments, and a summary of all comments will be incorporated in the record of decision for the proposed Keystone XL pipeline. The Department will also accept written comments on the national interest determination beginning on the date the final Environmental Impact Statement is issued. In order to ensure that comments are processed and considered before the decision is made on the permit application, all comments must be submitted by midnight on October 9, 2011.

Purpose: These meetings are an opportunity for the public to express views on all aspects of the proposed Keystone XL pipeline. Participants are encouraged to recount information illustrating their view about whether the issuance of a Presidential Permit for the Keystone XL pipeline project is in the U.S. national interest.

Presiding Officer: The meetings will be chaired by a senior official from the U.S. Department of State. At the beginning of the meeting, the presiding officer will explain the status of the application for the permit and the Department's process for making a decision on the Permit, but will not answer questions. The presiding officer or an assistant will announce the name of each speaker from the sign-up list.

Protocol: We ask attendees to respect the meeting procedures in order to ensure a constructive information gathering session. No signs or banners will be allowed inside the meeting venue. The presiding officer will use his/her discretion to conduct the meeting in an orderly manner.

FOR FURTHER INFORMATION CONTACT: A comprehensive description of the proposed Project and up-to-date information regarding the public meetings are available at http://www.keystonepipeline-xl.state.gov. The final Environmental Impact Statement, including a summary of public comments received during two prior public comment periods, will also be available online.

Comments can be submitted by the following methods: online at http://www.keystonepipeline-xl.state.gov; e-mail at keystonexl-nid@cardno.com; fax at 206-269-0098; or mailed to the following address:

Alexander Yuan, Keystone XL EIS Project, P.O. Box 96503-98500, Washington, DC 20090-6503.

As noted above, in order for comments to be considered they must be submitted by midnight on October 9, 2011.

Media Contacts: Please contact Wendy Nassmacher at 202-647-6664 or via e-mail at NassmacherWL@state.gov.

Issued in Washington, DC, on August 26, 2010.
Dated: August 23, 2011.
John E. Thompson,
Acting Director, Bureau of Oceans and International Environmental and Scientific Affairs/Office of Environmental Policy, U.S. Department of State.

[FR Doc. 2011-21939 Filed 8-25-11; 8:45 am]

BILLING CODE 4710-09-P